DEPARTMENT OF COMMERCE

National Oceanic and Atmospheric Administration

RIN 0648-XE132

NOAA Commercial Space Policy

AGENCY: National Oceanic and Atmospheric Administration (NOAA), Commerce.

ACTION: Notice of availability of the NOAA Commercial Space Policy.

SUMMARY: NOAA has released the final NOAA Commercial Space Policy (Policy). On September 1, 2015, NOAA released a draft Commercial Space Policy for a 30-day public comment period. During this comment period, 15 sets of comments were received (see www.regulations.gov/#!docketDetail;D=NOAA-NMFS-2015-0109). All comments were reviewed, adjudicated and, where appropriate, incorporated or reflected in the final Policy.

ADDRESSES: To obtain copies of the Policy please go to: http://www.corporateservices.noaa.gov/ames/administrative_orders/chapter_217/217-109.html or www.regulations.gov and search NOAA-NMFS-2015-0109, or contact Mr. Troy Wilds, Executive Director, Office of the Under Secretary, U.S. Department of Commerce, National Oceanic and Atmospheric Administration, Suite 51032, 14th and Constitution Avenue NW., Washington DC 20230. (Phone: 202-482-3193, troy.wilds@noaa.gov).

FOR FURTHER INFORMATION CONTACT: For additional information regarding the Policy, please contact Mr. Troy Wilds, Executive Director, Office of the Under Secretary, U.S. Department of Commerce, National Oceanic and Atmospheric Administration, Suite 51032, 14th and Constitution Avenue NW., Washington DC 20230. (Phone: 202-482-3193, troy.wilds@noaa.gov).

SUPPLEMENTARY INFORMATION:

Background

NOAA's Commercial Space Policy sets a broad framework for use of commercial space-based approaches by the agency to meet its observational requirements. Changes in the commercial space services arena are happening rapidly, yielding new technical and business approaches to building, launching, and operating satellites, and selling private satellite capabilities as services. NOAA is interested in exploring these emerging commercial capabilities to better understand how they might complement the agency's current offerings.

The draft policy was published on September 1, 2015 (80 FR 52745). The final policy establishes critical components for improved engagement with the commercial sector: Designating the Office of Space Commerce as a single point of entry for commercial providers thereby streamlining the process for easier engagement; establishes an open and transparent marketplace; defines guiding principles, implementation considerations, and strategic planning for potential commercial data buys; and establishes the possibility of demonstration projects, where appropriate, to test and evaluate new potential data sources, and provides an avenue to operational commercial data buys.

As demand for information about the changing state of our planet grows, NOAA strives to support and grow an observing enterprise that is flexible, responsive to evolving technologies, and economically sustainable. This policy will allow NOAA to seek solutions that meet these needs while also supporting and upholding the international data sharing commitments upon which we depend for global data and data products.

Dated: January 15, 2016.
Manson K. Brown,
Deputy Administrator, National Oceanic and Atmospheric Administration.

[FR Doc. 2016-01653 Filed 1-26-16; 8:45 am]

BILLING CODE 3510-12-P